DEPARTMENT OF COMMERCE

National Oceanic and Atmospheric Administration

[I.D. 071306F]

Marine Mammals; File No. 633-1778

AGENCY: National Marine Fisheries Service (NMFS), National Oceanic and Atmospheric Administration (NOAA), Commerce.

ACTION: Notice; issuance of permit.

SUMMARY: Notice is hereby given that the Center for Coastal Studies, P.O. Box 1036, Provincetown, MA 02657 [Principal Investigator: Julie Robbins] has been issued a permit to conduct scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

FOR FURTHER INFORMATION CONTACT: Carrie Hubard or Patrick Opay, (301)713-2289.

SUPPLEMENTARY INFORMATION: On March 21, 2005, notice was published in the Federal Register (70 FR 13481) that a request for a scientific research permit to take various pinniped and cetacean species, including endangered large whales, had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit holder is authorized to conduct photo-identification and biopsy sampling of a variety of large whale species, with a focus on humpback whales (Megaptera novaeangliae). Sloughed skin may also be collected and all biological samples may be imported and exported. Several small cetaceans species as well as harbor seals (Phoca vitulina) and grey seals (Halicoerus grypus) may be incidentally harassed during the research. Activities will be conducted in the U.S. waters of the Gulf of Maine and waters off the U.S. northeast and mid-Atlantic states in the North Atlantic Ocean. The permit expires in 5 years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of any endangered species; and (3) is consistent with the purposes and policies set forth in section 2 of the ESA.

Dated: July 13, 2006.
P. Michael Payne,
Chief, Permits, Conservation and Education Division, Office of Protected Resources, National Marine Fisheries Service.

[FR Doc. E6-11445 Filed 7-18-06; 8:45 am]

BILLING CODE 3510-22-S